DEPARTMENT OF COMMERCE

National Oceanic and Atmospheric Administration

RIN 0648-XE529

General Advisory Committee to the U.S. Section to the Inter-American Tropical Tuna Commission and Scientific Advisory Subcommittee to the General Advisory Committee; Meetings and Call Announcement

AGENCY: National Marine Fisheries Service (NMFS), National Oceanic and Atmospheric Administration (NOAA), Commerce.

ACTION: Notice of public meeting and conference call.

SUMMARY: NMFS announces a public meeting of the General Advisory Committee (GAC) to the U.S. Section to the Inter-American Tropical Tuna Commission (IATTC) on May 27, 2016, and a public meeting of the Scientific Advisory Subcommittee (SAS) to the GAC on May 26, 2016. Additionally, NMFS announces a public conference call of the GAC and SAS on May 3, 2016. The meeting and call topics are described under the SUPPLEMENTARY INFORMATION section of this notice.

DATES: The meeting of the SAS will be held on May 26, 2016, from 10 a.m. to 5 p.m. PDT (or until business is concluded). The meeting of the GAC will be held on May 27, 2016, from 8:30 a.m. to 5 p.m. PDT (or until business is concluded). The conference call with the SAS and GAC will be held on May 3, 2016, from 12 p.m. to 2 p.m. (or until business is concluded).

ADDRESSES: The GAC and SAS meetings will be held in the Pacific Conference Room (Room 300) at NMFS, Southwest Fisheries Science Center, 8901 La Jolla Shores Drive, La Jolla, California 92037-1508. Please notify Taylor Debevec (see FOR FURTHER INFORMATION CONTACT) by May 20, 2016, if you plan to attend either or both meetings in person or remotely. The meetings will be accessible by webinar—instructions will be emailed to meeting participants. The call will be held via conference line: 1-888-790-6181, passcode: 34214.

FOR FURTHER INFORMATION CONTACT: Taylor Debevec, West Coast Region, NMFS, at Taylor.Debevec@noaa.gov, or at (562) 980-4066.

SUPPLEMENTARY INFORMATION: In accordance with the Tuna Conventions Act (16 U.S.C. 951 et seq.), as amended, the U.S. Department of Commerce, in consultation with the Department of State (the State Department), appoints a GAC to the U.S. Section to the IATTC, and a SAS that advises the GAC. The U.S. Section consists of the four U.S. Commissioners to the IATTC and representatives of the State Department, NOAA, Department of Commerce, other agencies of the U.S. Government, and other stakeholders. The purpose of the GAC shall be to advise the U.S. Section with respect to U.S. participation in the work of the IATTC, with particular reference to development of U.S. policies, positions, and negotiating tactics. The purpose of the SAS is to advise the GAC on matters of science. NMFS West Coast Region provides administrative support for the GAC and SAS. The meetings of the GAC and SAS shall be open to the public, unless in executive session. The time and manner of public comment will be at the discretion of the chairs for the GAC and SAS.

The 90th meeting of the IATTC, the 33rd Meeting of the Parties to the Agreement on the International Dolphin Conservation Program (AIDCP), as well as working group meetings for both the IATTC and AIDCP, will be held in La Jolla, California from June 20 to July 1, 2016. For more information on these meetings, please visit the IATTC's Web site: https://www.iattc.org/MeetingsENG.htm.

GAC and SAS Meeting Topics

The GAC meeting topics will include, but are not limited to, the following:

(1) Outcomes of the 2016 SAC to the IATTC (e.g., stock status updates for tuna, tuna-like species, and other species caught in association with those fisheries in the eastern Pacific Ocean);

(2) Implementation of the Antigua Convention including the development of a SOPP;

(3) Input from the SAS;

(4) Formulation of advice on issues that may arise at the upcoming 90th meeting of the IATTC, including the IATTC staff's recommended conservation measures, U.S. proposals, and proposals from other IATTC members; and

(5) Other issues as they arise.

The SAS meeting topics will include, but are not limited to, the following:

(1) Outcomes of the 2016 Scientific Advisory Committee (SAC) to the IATTC (e.g., stock status updates for tuna, tuna-like species, and other species caught in association with those fisheries in the eastern Pacific Ocean);

(2) Implementation of the Antigua Convention including the development of a Statement of Organization, Practices, and Procedures (SOPP);

(3) Issues related to the impact of fishing on non-target species, such as shark, seabirds, sea turtles;

(4) Evaluation of the IATTC staff's recommended conservation measures for 2016;

(5) U.S. proposals for the 90th meeting of the IATTC and proposals from other IATTC members; and

(6) Other issues as they arise.

The GAC and SAS call will exclusively consist of review and discussion of the draft SOPP in an effort to resolve most of the edits and comments before the GAC and SAS meeting so it does not take away from other agenda items.

Special Accommodations

The meeting location is physically accessible to people with disabilities. Requests for sign language interpretation or other auxiliary aids should be directed to Taylor Debevec (see FOR FURTHER INFORMATION CONTACT) by May 11, 2016.

Authority: 16 U.S.C. 951 et seq.

Dated: April 18, 2016.
Emily H. Menashes,
Acting Director, Office of Sustainable Fisheries, National Marine Fisheries Service.

[FR Doc. 2016-09284 Filed 4-20-16; 8:45 am]

BILLING CODE 3510-22-P